DEPARTMENT OF THE INTERIOR

National Park Service

36 CFR Part 7

RIN 1024-AD75

Special Regulations; Areas of the National Park System, Grand Teton National Park, Bicycle Routes, Fishing and Vessels

AGENCY: National Park Service, Interior.

ACTION: Final rule.

SUMMARY: This rule designates certain multi-use pathways in Grand Teton National Park (Park) as routes for bicycle use. National Park Service (NPS) regulations require issuance of a special regulation to designate bicycle routes that are located off park roads and outside developed areas. The first two segments of a planned multi-use pathway system have been constructed and are generally located within 50 feet of existing park roads. Separating bicycle traffic from lanes used for motor vehicle travel will reduce real and perceived safety hazards, which will enhance opportunities for non-motorized enjoyment of the park and encourage the use of alternate transportation. This rule also revises NPS special regulations regarding fishing and vessels in certain Park waters to reflect current operating practices and management objectives.

DATES: This regulation is effective November 3, 2011.

FOR FURTHER INFORMATION CONTACT: Gary M. Pollock, Management Assistant, Grand Teton National Park, 307-739-3428.

SUPPLEMENTARY INFORMATION:

Background

Grand Teton National Park is located in northwest Wyoming and encompasses approximately 310,000 acres. Located just south of Yellowstone National Park, Grand Teton is at the heart of the Greater Yellowstone Ecosystem, and includes the iconic mountains of the Teton Range, the broad valley of Jackson Hole, numerous lakes, and a 40-mile segment of the Snake River. The park was originally established in 1929, but at that time included only the mountains and several of the lakes at their base. In 1943, Jackson Hole National Monument was established by presidential proclamation, including much of the valley to the east of the mountains. In 1950, Congress combined the 1929 park and the national monument into the present-day national park.

The Park supports diverse and abundant populations of wildlife, and is world renowned for its opportunities to view elk, moose, bison, pronghorn, grizzly and black bears, grey wolves, and coyotes. Other species such as trumpeter swans, bald eagles, and many species of waterfowl and small mammals are also abundant.

Visitors to the Park typically participate in several types of activities, including: scenic touring, viewing wildlife, hiking, mountain climbing, fly fishing, float trips, bicycling, and other forms of recreation consistent with enjoyment of the Park's resources. The Park includes several major developed areas, five campgrounds, almost 200 miles of hiking trails, 140 miles of paved roads, and 70 miles of unpaved roads. Visitation to the Park has remained relatively constant over the last decade averaging approximately 2.5 million recreational visitors, mostly between the months of May and September.

In April 2000, the Park undertook a transportation study to collect basic information regarding transportation issues in the Park. The study subsequently served as a foundation for a transportation planning process that was initiated in September 2001. The Transportation Plan/Final Environmental Impact Statement (FEIS) was released in September 2006. A Record of Decision (ROD) selecting Alternative 3a was signed on March 12, 2007, and a notice of the decision was published in the Federal Register on April 24, 2007 (72 FR 20365). A full description of the alternatives that were considered, the environmental impacts associated with the project, and public involvement can be found online at http://www.nps.gov/grte/parkmgmt/tranplan.

Although the planning effort and ROD addressed a variety of transportation-related issues, a major focus was on the development of a system of multi-use pathways to improve opportunities for non-motorized activities within the Park. Bicycling has become increasingly popular in the Park, and many visitors and others who commented during the planning process expressed concerns over the risks that are present when bicycles and motor vehicles share the road. Commenters often noted that this was particularly true for families with young children and visitors who are not experienced bicyclists.

Among the issues that were raised during the planning process were the potential effects of the pathway system on the park's wildlife. Although wildlife is abundant and often visible from park roads, it is well documented that animals respond differently to the presence of pedestrians and bicyclists than they do to motor vehicle traffic. The potential for reducing the effectiveness of habitat and displacing wildlife from areas located near the pathways was a significant concern for many individuals and organizations that commented during the planning process. Furthermore, in light of the Park's abundant wildlife, concerns were raised regarding the potential for surprise and potentially dangerous encounters between bicyclists and large animals, including grizzly bears.

The ROD sets forth the Park's decision for the development of an extended system of multi-use pathways within the park. The system will include 39 miles of pathways between the south park boundary and Colter Bay via the Teton Park Road, as well as a 3-mile segment along the Moose-Wilson Road between the Granite Canyon Entrance and the Laurance S. Rockefeller Preserve. In general, pathways will be constructed within 50 feet of the road, except that the segments between North Jenny Lake Junction and Colter Bay, and along the Moose-Wilson Road will be constructed in very close proximity to the roads, generally within the existing engineered and previously disturbed road corridors.

The preferred alternative in the FEIS, subsequently adopted in the ROD, addressed the concerns regarding wildlife through a combination of research and monitoring, construction phasing, and the requirement that certain portions of the pathway system would be constructed within the existing road corridors. Specifically, the ROD includes a significant emphasis on wildlife research and monitoring to provide a detailed understanding of the effects of pathway development. Monitoring and research activities began in 2007 to provide a pre-construction baseline, and continued through 2010. The phased approach to construction of the pathway system will allow information obtained from the research and monitoring program to be integrated into the design and operation of future pathway segments.

The first phase of pathways was constructed during the summer and fall of 2008. These segments extend from the Dornan's inholding near Park headquarters in Moose along the Teton Park Road to the South Jenny Lake area, a distance of approximately 8 miles. Additional segments may be constructed and designated as funds become available.

Rationale for the Final Rule

This rule complies with 36 CFR 4.30, which requires the NPS to designate bicycle routes outside of developed areas through the promulgation of a special regulation. Section 4.30 further specifies that such routes may be designated only upon “* * * a written determination that such use is consistent with the protection of a park area's natural, scenic and aesthetic values, safety considerations and management objectives and will not disturb wildlife or park resources.” The Superintendent has made such a determination and found that the designation of the pathway segments between Moose and South Jenny Lake as a route for bicycle use is consistent with the requirements of 36 CFR 4.30.

This rule also makes several changes to the special regulations for the Park, as set forth in 36 CFR 7.22, to reflect current operating practices and changes to the Park's land status. The rule closes Phelps Lake to the operation of motor boats, consistent with all other backcountry lakes in the Park. This change is prompted by the change in land status for the area surrounding the southern half of the lake.

Prior to November 2007, these lands were a private inholding within the park known as the JY Ranch, owned by Laurance S. Rockefeller and, subsequent to his death, by his estate. The property functioned as a family guest ranch and retreat for the Rockefeller family since the 1930s, where guests typically engaged in activities such as hiking, horseback riding, and boating on Phelps Lake. The ranch included a boathouse on the lakeshore where motorboats were kept during the summer. The Park's special regulations authorized the use of motorboats on Phelps Lake, thereby allowing the JY Ranch to continue a use that had existed prior to the Park's establishment. No other motorboat use occurred on the lake since it was inaccessible to park visitors except on foot or horseback.

Before his death, Mr. Rockefeller made a decision to donate the property to the United States for inclusion within the Park. In accordance with Mr. Rockefeller's wishes, all buildings, roads, and other development were removed by his estate, and a system of trails to allow visitors to enjoy the area was constructed. The property was conveyed to the United States in November 2007. This rule removes the now-unnecessary provision that allowed motorboat use on Phelps Lake.

This rule also removes the provision in 36 CFR 7.22(b) that allows authorized marine bait dealers, all of which are Park concessioners, to keep certain species of fish taken from Jackson Lake and sell them as bait. The NPS determined this provision to be unnecessary and inconsistent with NPS Management Policies, and the practice was discontinued several years ago.

Summary of and Responses to Public Comments

The NPS published a proposed rule on October 5, 2009 (74 FR 51099) and accepted public comments through December 4, 2009. Comments were accepted through the mail, hand delivery, and through the Federal eRulemaking Portal: http://www.regulations.gov. A total of three (3) comments were received, all of them from individuals.

One of the comments supported the proposed rule but opposed NPS regulation of bicycle use and other uses. The NPS recognizes that individuals have a variety of opinions regarding the regulation of activities within units of the National Park System, but notes that such regulations are necessary for the proper administration of such areas.

A second comment supported the proposed rule and noted that the pathway system will benefit persons with disabilities. The NPS agrees with the comment.

A third comment supported the proposed rule and suggested the adoption of safety and etiquette rules for pathway users, such as travelling at a safe speed, keeping right except to pass, giving a clear warning when passing, and moving off the trail when stopped. The NPS will provide information to pathway users on proper etiquette and establish additional rules regulating the use of the pathway consistent with the requirements of 36 CFR 1.5 and 1.7.

Changes From the Proposed Rule

The term motorboat in the proposed rule is changed to power-driven vessel in the final rule, as the term power-driven vessel is defined by the NPS in 36 CFR 1.4 and use here is consistent with language in 36 CFR part 3 pertaining to Boating and Water Use activities within NPS areas system-wide. Further, the rule language in the final rule is changed slightly and formatted differently than in the proposed rule to improve clarity and consistency with contemporary rulemaking without affecting the intent of the rule.

Summary of Economic Analysis

The NPS published a report in March 2009 entitled “Cost-Benefit and Regulatory Flexibility Analyses: Proposed Regulations Designating Pathways for Multi-Use in Grand Teton National Park.” The report presents the cost-benefit and regulatory flexibility analyses of the regulatory action associated with designating certain pathways for multi-use, including bicycle use, pursuant to the Grand Teton National Park Transportation Plan (NPS 2006). Quantitative analyses were not conducted due to a lack of available data, and because the additional cost of conducting quantitative analyses was not considered to be reasonably related to the expected increase in the quantity and/or quality of relevant information. Nevertheless, the NPS believes that the cost-benefit and regulatory flexibility analyses provide an adequate assessment of all relevant costs and benefits associated with the regulatory action.

The results of the cost-benefit analysis indicate that the costs of the regulatory action are justified by the associated benefits. Additionally, this regulatory action will not have an annual economic effect of $100 million or more, and will not adversely affect an economic sector, productivity, jobs, the environment, or other units of government. This regulatory action will improve economic efficiency.

The full report is available for review on the Park Web site, http://www.nps.gov/grte.

Drafting Information: The primary author of this rule was Gary M. Pollock, Management Assistant, Grand Teton National Park.

Compliance With Other Laws and Executive Orders

Regulatory Planning and Review (Executive Order 12866)

This document is not a significant rule and is not subject to review by the Office of Management and Budget under Executive Order 12866.

(1) This rule will not have an effect of $100 million or more on the economy. It will not adversely affect, in a material way, the economy, productivity, competition, jobs, the environment, public health or safety, or State, local, or tribal governments or communities.

(2) This rule will not create a serious inconsistency or otherwise interfere with an action taken or planned by another agency. Since this is an agency-specific change, implementing actions under this rule will not interfere with plans by other agencies, local government plans, policies, or controls.

(3) This rule does not alter the budgetary effects of entitlements, grants, user fees, or loan programs or the rights or obligations of their recipients. This rule exclusively affects the use of bicycles and motorboats within the Park. No grants or other forms of monetary supplement are involved.

(4) This rule does not raise novel legal or policy issues. This rule simply implements the NPS general bicycle regulation at 36 CFR 4.30 requiring rulemaking for the designation of bicycle routes in Grand Teton National Park.

Regulatory Flexibility Act (RFA)

The Department of the Interior certifies that this document will not have a significant economic effect on a substantial number of small entities under the RFA (5 U.S.C. 601 et seq.). This certification is based on information contained in the report titled “Cost-Benefit and Regulatory Flexibility Analyses: Proposed Regulations Designating Pathways for Multi-Use in Grand Teton National Park,” which is available for review on the Park Web site at: http://www.nps.gov/grte.

Small Business Regulatory Enforcement Fairness Act (SBREFA)

This rule is not a major rule under 5 U.S.C. 804(2), the SBREFA. This rule:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act (UMRA)

This rule does not impose an unfunded mandate on State, local, or tribal governments or the private sector of more than $100 million per year. The rule does not have a significant or unique effect on State, local or tribal governments or the private sector. A statement containing the information required by the UMRA (2 U.S.C. 1531 et seq.) is not required. It addresses public use of national park lands, and imposes no requirements on other agencies or governments.

Takings (Executive Order 12630)

Under the criteria in Executive Order 12630, the rule does not have significant takings implications. A taking implication assessment is not required. No taking of personal property will occur as a result of this rule.

Federalism (Executive Order 13132)

Under the criteria in Executive Order 13132, the rule does not have sufficient federalism implications to warrant the preparation of a Federalism summary impact statement. A Federalism summary impact statement is not required. This rule only affects use of NPS administered lands and waters. It has no outside effects on other areas.

Civil Justice Reform (Executive Order 12988)

This rule complies with the requirements of Executive Order 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175)

Under the criteria in Executive Order 13175, we have evaluated this rule and determined that it has no potential effects on federally recognized Indian tribes. Representatives of the eleven tribes affiliated with the Park were consulted during the preparation of the FEIS for the project.

Paperwork Reduction Act (PRA)

This rule does not contain information collection requirements, and a submission under the PRA is not required.

National Environmental Policy Act (NEPA)

In April 2000, the Park undertook a transportation study to collect basic information regarding transportation issues in the Park. The study subsequently served as a foundation for a transportation planning process that was initiated in September 2001. The Transportation Plan/Final Environmental Impact Statement (FEIS) was released in September 2006. A Record of Decision (ROD) selecting Alternative 3a was signed on March 12, 2007, and a notice of the decision was published in the Federal Register on April 24, 2007 (72 FR 20365). A full description of the alternatives that were considered, the environmental impacts associated with the project, and public involvement can be found online at http://www.nps.gov/grte/parkmgmt/tranplan or by contacting the Superintendent, Grand Teton National Park, P.O. Drawer 170, Moose, Wyoming 83012.

Information Quality Act (IQA)

In developing this rule we did not conduct or use a study, experiment, or survey requiring peer review under the IQA (Pub. L. 106-554).

Effects on the Energy Supply (Executive Order 13211)

This rule is not a significant energy action under the definition in Executive Order 13211. A Statement of Energy Effects is not required.

List of Subjects in 36 CFR Part 7

National parks, Reporting and recordkeeping requirements.

For the reasons given in the preamble, 36 CFR part 7 is amended as set forth below:

PART 7—SPECIAL REGULATIONS, AREAS OF THE NATIONAL PARK SYSTEM

1. The authority citation for part 7 continues to read as follows:

Authority: 16 U.S.C. 1, 3, 9a, 460(q), 462(k); Sec. 7.96 also issued under 36 U.S.C. 501-511, D.C. Code 10-137 (2001) and D.C. Code 50-2201 (2001).

2. Amend § 7.22 to revise paragraphs (b)(3) and (e)(1), redesignate paragraphs (e)(2) through (e)(4) as (e)(3) through (e)(5), and add new paragraphs (e)(2) and (h) to read as follows:

§ 7.22 Grand Teton National Park.

* * * * *

(b) * * *

(3) Bait: (i) The use or possession of fish eggs or fish for bait is prohibited on or along the shores of all park waters, except:

(ii) It is permissible to possess or use the following dead, non-game fish as bait on or along the shores of Jackson Lake:

(A) Redside Shiner

(B) Speckled Dace

(C) Longnose Dace

(D) Piute Sculpin

(E) Mottled Sculpin

(F) Utah Chub

(G) Utah Sucker

(H) Bluehead Sucker

(I) Mountain Sucker

* * * * *

(e) Vessels. (1) Power-driven vessels are prohibited on all park waters except Jackson Lake and Jenny Lake.

(2) On Jenny Lake:

(i) Operating a power-driven vessel using a motor exceeding 7½ horsepower is prohibited, except:

(ii) An NPS authorized boating concessioner may operate power-driven vessels under conditions specified by the Superintendent.

* * * * *

(h) Where may I ride a bicycle in Grand Teton National Park? (1) You may ride a bicycle on park roads, in parking areas, and upon designated routes established within the park in accordance with § 4.30(a) of this chapter. The following routes are designated for bicycle use:

(i) The paved multi-use pathway alongside Dornan Road between Dornan's and the Teton Park Road.

(ii) The paved multi-use pathway alongside the Teton Park Road between Dornan Road (Dornan's Junction) and the South Jenny Lake developed area.

(2) The Superintendent may open or close designated routes, or portions thereof, or impose conditions or restrictions for bicycle use after taking into consideration the location of or impacts on wildlife, the amount of snow cover or other environmental conditions, public safety, and other factors, under the criteria and procedures of §§ 1.5 and 1.7 of this chapter.

Dated: September 22, 2011.
Eileen Sobeck,
Acting Assistant Secretary for Fish and Wildlife and Parks.

[FR Doc. 2011-25394 Filed 10-3-11; 8:45 am]

BILLING CODE 4310-CT-P